DEPARTMENT OF COMMERCE

International Trade Administration

[A-427-818]

Low Enriched Uranium from France: Extension of the Time Limit for the Preliminary Results of Antidumping Duty Administrative Review

AGENCY: Import Administration, International Trade Administration, Department of Commerce.

EFFECTIVE DATE: December 16, 2003.

FOR FURTHER INFORMATION CONTACT: Vicki Schepker or Carol Henninger at (202) 482-1756 or (202) 482-3003, respectively; Office of AD/CVD Enforcement 5, Import Administration, International Trade Administration, U.S. Department of Commerce, 14th Street and Constitution Avenue, NW, Washington, DC 20230.

SUPPLEMENTARY INFORMATION:

TIME LIMITS:

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

Eurodif S.A. (Eurodif), a French producer of subject merchandise, and its affiliated parties Compagnie Générale Des Matières Nucléaires (COGEMA) and COGEMA, Inc. (collectively, COGEMA/Eurodif), requested an administrative review of the antidumping order on low enriched uranium from France on February 3, 2003. United States Enrichment Corporation and USEC, Inc. (the petitioner), a domestic producer of subject merchandise, requested a review on February 28, 2003. On March 25, 2003, the Department published a notice of initiation of the administrative review, covering the period July 13, 2001, through January 31, 2003, (Initiation of Antidumping and Countervailing Duty Administrative Reviews and Requests for Revocation in Part, 68 FR 14394). On October 27, 2003, the Department published a notice extending the time limit for the preliminary results, (Extension of the Time Limit for the Preliminary Results of Antidumping Duty Administrative Review, 68 FR 61184). The preliminary results are currently due no later than December 18, 2003. On November 18, 2003, the petitioner filed comments for the Department's consideration prior to the preliminary results. On December 1, 2003, COGEMA/Eurodif responded to those comments.

Extension of Time Limit for Preliminary Results of Review

We determine that it is not practicable to complete the preliminary results of this review within the revised time limit due to the complex issues that have been raised. Examples of issues that must be considered include the proper treatment of commingled merchandise, the appropriateness of granting a constructed export price (CEP) offset, and the application of the major input rule. Therefore, the Department is extending the time limit for completion of the preliminary results until no later than January 20, 2004. We intend to issue the final results no later than 120 days after publication of the preliminary results notice.

This extension is in accordance with section 751(a)(3)(A) of the Act.

Dated: December 9, 2003.
Holly A. Kuga,
Acting Deputy Assistant Secretary for AD/CVD Enforcement II.

[FR Doc. 03-31020 Filed 12-15-03; 8:45 am]

BILLING CODE 3510-DS-S